DEPARTMENT OF COMMERCE

International Trade Administration

[A-475-820]

Stainless Steel Wire Rod from Italy: Notice of Final Results of Changed Circumstances Antidumping Duty Review

AGENCY: Import Administration, International Trade Administration, Department of Commerce.

SUMMARY: On March 20, 2006, the Department of Commerce (the Department) published a notice of initiation and preliminary results of its changed circumstances review of the antidumping duty order on stainless steel wire rod (SSWR) from Italy. See Notice of Initiation and Preliminary Results of Changed Circumstances Antidumping Duty Review: Stainless Steel Wire Rod from Italy, 71 FR 13964 (Mar. 20, 2006) (Preliminary Results). We have now completed that review. For these final results, as in the Preliminary Results, we determine that: 1) Acciaierie Valbruna S.p.A. (Valbruna S.p.A.) is the successor-in-interest to Acciaierie Valbruna S.r.l. (Valbruna S.r.l.) and its subsidiary Acciaierie Bolzano S.p.A. (Bolzano S.p.A.), a respondent in the less-than-fair-value investigation; and 2) merchandise from Acciaierie Valbruna S.p.A. should be excluded from the antidumping duty order.

EFFECTIVE DATE: December 16, 1998.

FOR FURTHER INFORMATION CONTACT: Irina Itkin or Alice Gibbons, AD/CVD Operations, Office 2, Import Administration, International Trade Administration, U.S. Department of Commerce, 14th Street and Constitution Avenue, NW, Washington, DC 20230; telephone (202) 482-0656 and (202) 482-0498, respectively.

SUPPLEMENTARY INFORMATION:

Background

On September 15, 1998, the Department published in the Federal Register (63 FR 49327) the antidumping duty order on SSWR from Italy. Valbruna S.r.l. and its affiliate Bolzano S.p.A. were excluded from the order because their dumping margin was de minimis. On January 26, 2006, Valbruna S.p.A. submitted a written request that the Department conduct a changed circumstances review in order to clarify for U.S. Customs and Border Protection (CBP) that Valbruna S.p.A. is the successor-in-interest to Valbruna S.r.l./Bolzano S.p.A. and that subject merchandise produced by this entity should not be subject to antidumping duties. Valbruna S.p.A. requested that the result of the Department's changed circumstances review be retroactive to December 16, 1998, the effective date of Valbruna S.r.l.'s name and corporate change to Valbruna S.p.A.

On March 20, 2006, the Department published a notice of initiation and preliminary results of its changed circumstances review of the antidumping duty order on SSWR from Italy. See Preliminary Results. Interested parties were invited to comment on the preliminary results. No parties submitted comments.

Scope of Order

For purposes of this order, SSWR comprises products that are hot-rolled or hot-rolled annealed and/or pickled and/or descaled rounds, squares, octagons, hexagons or other shapes, in coils, that may also be coated with a lubricant containing copper, lime or oxalate. SSWR is made of alloy steels containing, by weight, 1.2 percent or less of carbon and 10.5 percent or more of chromium, with or without other elements. These products are manufactured only by hot-rolling or hot-rolling, annealing, and/or pickling and/or descaling, are normally sold in coiled form, and are of solid cross-section. The majority of SSWR sold in the United States is round in cross-sectional shape, annealed and pickled, and later cold-finished into stainless steel wire or small-diameter bar.

The most common size for such products is 5.5 millimeters or 0.217 inches in diameter, which represents the smallest size that normally is produced on a rolling mill and is the size that most wire-drawing machines are set up to draw. The range of SSWR sizes normally sold in the United States is between 0.20 inches and 1.312 inches diameter. Two stainless steel grades, SF20T and K-M35FL, are excluded from the scope of the order. The chemical makeup for the excluded grades is as follows:

SF20T
Carbon | 0.05max | Chromium | 19.00/21.00
Manganese | 2.00 max | Molybdenum | 1.50/2.50
Phosphorous | 0.05 max | Lead | added (0.10/0.30)
Sulfur | 0.15 max | Tellurium | added (0.03 min)
Silicon | 1.00 max

K-M35FL
Carbon | 0.015 max | Nickel | 0.30 max
Silicon | 0.70/1.00 | Chromium | 12.50/14.00
Manganese | 0.40 max | Lead | 0.10/0.30
Phosphorous | 0.04 max | Aluminum | 0.20/0.35
Sulfur | 0.03 max

The products subject to this order are currently classifiable under subheadings 7221.00.0005, 7221.00.0015, 7221.00.0030, 7221.00.0045, and 7221.00.0075 of the Harmonized Tariff Schedule of the United States (HTSUS). Although the HTSUS subheadings are provided for convenience and customs purposes, the written description of the merchandise is dispositive.

Final Results of Review

Based on our analysis in the Preliminary Results, we find that Valbruna S.p.A. is the successor-in-interest to Valbruna S.r.l./Bolzano S.p.A. Based on evidence on the record, we find that Valbruna S.p.A.'s organizational structure, management, production facilities, supplier relationships, and customers have remained essentially unchanged. Further, we find that Valbruna S.p.A. operates as the same business entity as Valbruna S.r.l./Bolzano S.p.A. Because Valbruna S.r.l./Bolzano S.p.A. was excluded from the antidumping duty order on SSWR from Italy, we will apply this determination retroactively and will instruct CBP to liquidate, without regard to antidumping duties, all unliquidated entries entered, or withdrawn from warehouse, for consumption on or after December 16, 1998, the date of Valbruna S.r.l.'s name change to Valbruna S.p.A, in accordance with past precedent. See Certain Hot-Rolled Lead and Bismuth Carbon Steel Products from the United Kingdom: Final Results of Changed-Circumstances Antidumping and Countervailing Duty Administrative Review, 64 FR 66880, 66881 (Nov. 30, 1999) (where the Department applied the changed circumstances determination retroactively because the company in question received a de minimis margin at the final determination and, thus, was never subject to the countervailing duty order).

Notification

This notice also serves as a final reminder to parties subject to administrative protective orders (APOs) of their responsibility concerning the disposition of proprietary information disclosed under APO in accordance with 19 CFR 352.305(a)(3). Timely notification of the return/destruction of APO materials or conversion to judicial protective order is hereby requested. Failure to comply with the regulations and the terms of an APO is a sanctionable violation.

This determination and notice are issued and published in accordance with sections 751(b)(1) and 777(i)(1) of the Tariff Act of 1930, as amended, and 19 CFR 351.216.

Dated: April 19, 2006.
David M. Spooner,
Assistant Secretary for Import Administration.

[FR Doc. E6-6289 Filed 4-25-06; 8:45 am]

BILLING CODE 3510-DS-S